DEPARTMENT OF COMMERCE

International Trade Administration

[A-201-822]

Stainless Steel Sheet and Strip in Coils from Mexico: Amended Final Results of Antidumping Duty Administrative Review

AGENCY: Import Administration, International Trade Administration, Department of Commerce.

EFFECTIVE DATE: March 17, 2008

FOR FURTHER INFORMATION CONTACT: Maryanne Burke or Robert James, AD/CVD Operations, Office 7, Import Administration, International Trade Administration, U.S. Department of Commerce, 14th Street and Constitution Avenue, NW, Washington, DC 20230; telephone: (202) 482-5604 and (202) 482-0649, respectively.

SUMMARY: On February 11, 2008, the Department of Commerce (the Department) published in the Federal Register the final results of the administrative review of the antidumping duty order on stainless steel sheet and strip in coils from Mexico covering the period July 1, 2005 to June 30, 2006. See Stainless Steel Sheet and Strip in Coils from Mexico; Final Results of Antidumping Duty Administrative Review, 73 FR 7710 (February 11, 2008) (Final Results). We are amending the Final Results to correct a ministerial error in the calculation of the assessment rate applicable to entries of the respondent in this proceeding, ThyssenKrupp Mexinox S.A. de C.V. and Mexinox USA, Inc. (collectively, Mexinox), pursuant to section 751(h) of the Tariff Act of 1930, as amended (the Tariff Act) and 19 CFR 351.224(e).

SUPPLEMENTARY INFORMATION: On February 11, 2008, the Department received from Mexinox a timely allegation of a ministerial error pursuant to 19 CFR 351.224(c)(1). Mexinox alleges that the Department miscalculated the assessment rate in the final results. Mexinox states the Department did not include the reported customs value related to certain material which entered the United States for consumption but was returned to Mexico after further-processing in the United States. Mexinox states the Department explained its intention to include the customs value of this material in the denominator of the assessment rate in its memorandum “Analysis of Data Submitted by ThyssenKrupp Mexinox S.A. de C.V. for the Preliminary Results of the Antidumping Duty Administrative Review of Stainless Steel Sheet and Strip in Coils from Mexico (A-201-822).” Mexinox further notes it paid antidumping duty cash deposits on this material without a sale having been made to an unaffiliated U.S. customer. However, Mexinox contends the Department did not, in fact, incorporate the customs value at issue in calculating the assessment rate. Petitioners did not comment on the alleged ministerial error.

Amended Final Results of Review

A ministerial error as defined in section 751(h) of the Tariff Act, “includes errors in addition, subtraction, or other arithmetic function, clerical errors resulting from inaccurate copying, duplication, or the like, and any other type of unintentional error which the administering authority considers ministerial.” See also 19 CFR 351.224(f). After analyzing Mexinox's allegation, we have determined, in accordance with section 751(h) of the Tariff Act and 19 CFR 351.224(e), that the Department made a ministerial error in the final results by inadvertently excluding the customs value at issue from our assessment rate calculation. Therefore, we are amending the final results of administrative review of stainless steel sheet and strip in coils from Mexico for the period July 1, 2005 to June 30, 2006 to include the customs value at issue. The weighted-average percentage margin for Mexinox remains unchanged at 2.31 percent. Therefore, there is no need to issue new cash deposit instructions for these amended final results of this administrative review. We intend to issue appropriate assessment instructions to U.S. Customs and Border Protection 41 days after publication of these amended final results.

This notice is issued and published in accordance with sections 751(a)(1) and 777(i)(1) of the Tariff Act and 19 CFR 351.224(e).

Dated: March 10, 2008.
David M. Spooner,
Assistant Secretary for Import Administration.

[FR Doc. E8-5299 Filed 3-14-08; 8:45 am]

BILLING CODE 3510-DS-S